FEDERAL COMMUNICATIONS COMMISSION

[DA 09-796]

Requests Nominations by May 8, 2009 for Membership on the Technological Advisory Council

AGENCY: Federal Communications Commission.

ACTION: Notice.

SUMMARY: The Federal Communications Commission Technological Advisory Council (TAC) is in the process of being reestablished. This will enable the Commission to receive expert advice and recommendations on critical technologies and services fundamental to the growth of telecommunications. This information is necessary for the Commission to effectively fulfill its responsibilities under the Communication Act.

DATES: Nominations are due by May 8, 2009.

ADDRESSES: Federal Communications Commission, 445 12th Street, SW., Washington, DC 20554.

FOR FURTHER INFORMATION CONTACT: Jon Peha, 202-418-2406.

SUPPLEMENTARY INFORMATION: The Federal Communications Commission Technological Advisory Council (TAC) is in the process of being reestablished. The Commission is requesting nominations for membership on the TAC for its next two year cycle.

In reestablishing the TAC, the Commission noted that rapid advances in technology have resulted in innovations in how telecommunications services are provided to, and are accessed by, users of those services. Many of these advances create challenges and opportunities for the growth of telecommunications and use of the radio spectrum. The Commission must remain abreast of new developments in technology so that it can effectively fulfill its responsibilities under the Communications Act. The purpose of the TAC is to provide technical advice to the Federal Communications Commission and to make recommendations on the issues and questions presented to it by the FCC. The TAC will address questions referred to it by the FCC Chairman, the FCC Chief Technologist, the Chief of the FCC Office of Engineering and Technology, or the TAC Designated Federal Officer. The questions referred to the TAC will be directed to technological and technical issues in the field of communications. Among the potential topics that the TAC may consider are spectrum policy, broadband technology and deployment, communications technology that enhances and supports public safety, Internet security, and communications technology required to support emerging systems such as the smart grid and tele-health applications.

The TAC will meet three to five times per year, with the possibility of more frequent meetings by informal subcommittees. Meetings of the Committee shall be open to the public. Timely notice of each meeting will be published in the Federal Register and will be further publicized through other appropriate vehicles.

The Commission will provide facilities necessary to conduct meetings. Members of the Council will serve without any government compensation, and will not be entitled to travel expenses, per diem or subsistence allowances. The Council will consist of recognized technical experts in telecommunications and related fields.

The Commission will accept nominations for the Council through May 8, 2009. The Commission, at its discretion, may consider nominations received after this date, but consideration of late submissions is not guaranteed. Individuals may apply for, or nominate another individual for, membership on the Council. Each nomination or application must include:

a. The name and title of the applicant or nominee and a description of the interest the applicant or nominee will represent;

b. The applicant's or nominee's mail address, e-mail address, telephone number, and facsimile number (where available);

c. Reasons why the applicant or nominee should be appointed to the Council; and the basis for determining the applicant or nominee has achieved peer recognition as a technical expert.

Federal Communications Commission.
Jon M. Peha,
Chief Technologist.

[FR Doc. E9-8775 Filed 4-15-09; 8:45 am]

BILLING CODE 6712-01-P